DEPARTMENT OF HEALTH AND HUMAN SERVICES

Centers for Medicare & Medicaid Services

Privacy Act of 1974; CMS Computer Match No. 2007-03; HHS Computer Match No. 0407; SSA Computer Match No. 1048; IRS Project No. 241

AGENCY: Department of Health and Human Services (HHS), Centers for Medicare & Medicaid Services (CMS).

ACTION: Notice of renewal of an existing computer matching program (CMP) that has an expiration date of April 1, 2007.

SUMMARY: In accordance with the requirements of the Privacy Act of 1974, as amended, this notice announces the renewal of an existing CMP between CMS, the Internal Revenue Service (IRS), and the Social Security Administration (SSA). We have provided information about the matching program in the SUPPLEMENTARY INFORMATION section below. The Privacy Act provides an opportunity for interested persons to comment on the matching program. We may defer implementation of this matching program if we receive comments that persuade us to defer implementation. See “Effective Dates” section below for comment period.

DATES: Effective Dates: CMS filed a report of the Computer Matching Program (CMP) with the Chair of the House Committee on Oversight and Government Reform, the Chair of the Senate Committee on Homeland Security and Governmental Affairs, and the Administrator, Office of Information and Regulatory Affairs, Office of Management and Budget (OMB) on November 21, 2007. We will not disclose any information under a matching agreement until 40 days after filing a report to OMB and Congress or 30 days after publication in the Federal Register (FR), whichever is later.

ADDRESSES: The public should address comments to: Walter Stone, CMS Privacy Officer, Division of Privacy Compliance, Enterprise Architecture and Strategy Group, Office of Information Services (OIS), CMS, Mail stop N2-04-27, 7500 Security Boulevard, Baltimore, Maryland 21244-1850. Comments received will be available for review at this location, by appointment, during regular business hours, Monday through Friday from 9 a.m.-3 p.m., eastern daylight time.

FOR FURTHER INFORMATION CONTACT: John Albert, Technical Advisor, Division of Medicare Secondary Payer Policy and Operations, Financial Services Group, Office of Financial Management, CMS, Mailstop C3-14-16, 7500 Security Boulevard, Baltimore, Maryland 21244-1850. The telephone number is (410) 786-7457, or e-mail at John.Albert@cms.hhs.gov.

SUPPLEMENTARY INFORMATION:

I. Description of the Matching Program

A. General

The Computer Matching and Privacy Protection Act of 1988 (Public Law (Pub. L.) 100-503), amended the Privacy Act (5 U.S.C. 552a) by describing the manner in which computer matching involving Federal agencies could be performed and adding certain protections for individuals applying for and receiving Federal benefits. Section 7201 of the Omnibus Budget Reconciliation Act of 1990 (Pub. L. 101-508) further amended the Privacy Act regarding protections for such individuals. The Privacy Act, as amended, regulates the use of computer matching by Federal agencies when records in a system of records are matched with other Federal, state, or local government records. It requires Federal agencies involved in computer matching programs to:

1. Negotiate written agreements with the other agencies participating in the matching programs;

2. Obtain the Data Integrity Board approval of the match agreements;

3. Furnish detailed reports about matching programs to Congress and OMB;

4. Notify applicants and beneficiaries that the records are subject to matching; and,

5. Verify match findings before reducing, suspending, terminating, or denying an individual's benefits or payments.

B. CMS Computer Matches Subject to the Privacy Act

CMS has taken action to ensure that all CMPs that this Agency participates in comply with the requirements of the Privacy Act of 1974, as amended.

Dated: November 7, 2007.
Charlene Frizzera,
Chief Operating Officer, Centers for Medicare & Medicaid Services.

CMS COMPUTER MATCH NO. 2007-03

HHS COMPUTER MATCH NO. 0407

SSA COMPUTER MATCH NO. 1048

IRS PROJECT NO. 241

NAME:

“Medicare Secondary Payer (MSP) Program”.

SECURITY CLASSIFICATION:

Level Three Privacy Act Sensitive.

PARTICIPATING AGENCIES:

Internal Revenue Service (IRS), Social Security Administration (SSA), and the Centers for Medicare & Medicaid Services (CMS).

AUTHORITY FOR CONDUCTING MATCHING PROGRAM:

This Matching Agreement between IRS, SSA and CMS is executed pursuant to the Privacy Act of 1974 (Title 5 United States Code (U.S.C.) § 552a), as amended, (as amended by Public Law (Pub. L.) 100-503, the Computer Matching and Privacy Protection Act (CMPPA) of 1988), the Office of Management and Budget (OMB) Circular A-130, titled “Management of Federal Information Resources” at 61 Federal Register (FR) 6428-6435 (February 20, 1996), and OMB guidelines pertaining to computer matching at 54 FR 25818 (June 19, 1989).

This agreement implements the information matching provisions of § 6103(l)(12) of the Internal Revenue Code (IRC) (26 U.S.C 6103(1)(12)), and § 1862(b)(5) of the Social Security Act (42 U.S.C. 1395y(b)(5)).

PURPOSE(S) OF THE MATCHING PROGRAM:

The purpose of this agreement is to establish the conditions under which: (1) IRS agrees to disclose return information relating to taxpayer identity to SSA, and (2) SSA agrees to disclose return information relating to beneficiary and employer identity, commingled with information disclosed by the IRS, to CMS.

These disclosures will provide CMS with information for use in determining the extent to which any Medicare beneficiary is covered under any Group Health Plan (GHP).

CATEGORIES OF RECORDS AND INDIVIDUALS COVERED BY THE MATCH:

IRS will disclose taxpayer identity information from the CADE Individual Master File (IMF), Treasury/IRS 24.030, published at 66 FR 63800 (December 10, 2001), and maintained at the Martinsburg Computing Center in Martinsburg, West Virginia. This file includes millions of records of taxpayers who have filed Federal Individual Income Tax Returns. Project 241, IMF/Medicare Beneficiary Match, was established by IRS to facilitate this matching program.

SSA will extract identifying information of Medicare beneficiaries from the Master Beneficiary Record (MBR), SSA/OSR 60-0090, published at 71 FR 1826 (January 11, 2006) and maintained at the National Computer Center (NCC) in Baltimore, MD. This file includes records of individuals who have received and are receiving benefits under the Social Security Act. SSA will extract employer identity information from the Earnings Recording and Self-Employment Income System, SSA/0SR 60-0059, referred to as the Master Earnings File (MEF) published at 71 FR 1819 (January 11, 2006) and maintained at the NCC. This file contains earnings records of individuals including identifying information of their employees.

CMS will utilize a database, Medicare Advantage Prescription Drug System (MARx) CMS System No. 09-70-4001, published at 70 FR 60530 (October 18, 2005), maintained at the CMS Data Center, located in Baltimore, Maryland, of the GHP information received from employers containing verified instances of employment and GHP coverage for Medicare beneficiaries and Medicare-eligible spouses identified from the IMF and MEF extracts.

CMS will match GHP information against the Medicare Multi Carrier Claims System (MCS) (formerly known as Carrier Medicare Claims Records), CMS System No. 09-70-0501, published at 71 FR 64968 (November 6, 2006), maintained at the CMS Data Center, located in Baltimore, Maryland. These files contain information received from employers containing verified instances of employment and GHP coverage for Medicare beneficiaries and Medicare-eligible spouses identified from the IMF and MEF extracts.

CMS will match GHP information against the Fiscal Intermediary Shared System (FISS) (formerly known as Intermediary Medicare Claims Records, CMS System No. 09-70-0503, published at 71 FR 64961 (November 6, 2006), maintained at the CMS Data Center, located in Baltimore, Maryland. This file contains information or records needed to properly process and pay Medicare benefits to, or on behalf of, eligible individuals. The file is accessed when a claim is submitted for payment.

CMS will match GHP information against the CWF, CMS System No. 09-70-0526, published at 71 FR 64955 (November 6, 2006), which is the repository database for all current hospital and medical coverage MSP information. These files contain information or records needed to properly process and pay medical insurance benefits to, or on behalf of, entitled beneficiaries who have submitted claims for Medicare Medical Insurance Benefits (Medicare Part B). The file is accessed when a claim is submitted for payment.

CMS will match GHP information against the National Claims History (NCH), which is contained in the National Claims History File, CMS System No. 09-70-0558, published at 71 FR 67137 (November 20, 2006), maintained at the CMS Data Center, located in Baltimore, Maryland. NCH contains records needed to facilitate obtaining Medicare utilization review data that can be used to study the operation and effectiveness of the Medicare program.

INCLUSIVE DATES OF THE MATCH:

The Matching Program shall become effective 40 days after the report of the Matching Program is sent to OMB and Congress, or 30 days after publication in the FR, whichever is later. The matching program will continue for 18 months from the effective date and may be extended for an additional 12 months thereafter, if certain conditions are met.

[FR Doc. E7-23139 Filed 11-27-07; 8:45 am]

BILLING CODE 4120-01-P